DEPARTMENT OF TRANSPORTATION

[Docket No. MARAD-2017-0042]

Agency Requests for Renewal of a Previously Approved Information Collection(s): War Risk Insurance, Applications and Related Information

AGENCY: Maritime Administration, DOT.

ACTION: Notice and request for comments.

SUMMARY: The Maritime Administration (MARAD) invites public comments about our intention to request the Office of Management and Budget (OMB) approval to renew an information collection. The information to be collected will be used to determine the eligibility of the applicant and the vessel(s) for participation in the War Risk Insurance program. We are required to publish this notice in the Federal Register by the Paperwork Reduction Act of 1995.

DATES: Written comments should be submitted by May 15, 2017.

ADDRESSES: You may submit comments [identified by Docket No. DOT-MARAD-2017-0042] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Michael Yarrington, 202-366-1915, Office of Marine Insurance, Maritime Administration, U.S. Department of Transportation, 1200 New Jersey Avenue SE., Washington, DC 20590.

SUPPLEMENTARY INFORMATION: OMB Control Number: 2133-0011.

Title: War Risk Insurance Applications and Related Information.

Form Numbers: MA-355; MA-528; MA-742; MA-828, and MA-942.

Type of Review: Renewal of an information collection.

Background: As authorized by Section 1202, Title XII, Merchant Marine Act, 1936, as amended, (46 U. S. C. 53901-53912) (Act), the Secretary of the U.S. Department of Transportation (Secretary) may provide war risk insurance for national defense or the adequate for the needs of the waterborne commerce of the United States, if such insurance cannot be obtained on reasonable terms and conditions from companies authorized to do an insurance business in a state of the United States. It is effective until December 31, 2020.

Respondents: Vessel owners or charterers interested in participating in MARAD's war risk insurance program.

Number of Respondents: 20.

Frequency: Annually.

Number of Responses: 1.

Hours per Response: 12.8.

Total Annual Burden: 256.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

By Order of the Maritime Administrator.
Dated: March 9, 2017.
T. Mitchell Hudson, Jr.,
Secretary, Maritime Administration.

[FR Doc. 2017-05051 Filed 3-13-17; 8:45 am]

BILLING CODE 4910-81-P